OFFICE OF THE UNITED STATES TRADE REPRESENTATIVE

Notice of Meeting of the Industry Sector Advisory Committee on Small and Minority Business (ISAC-14)

AGENCY: Office of the United States Trade Representative.

ACTION: Notice of open meeting.

SUMMARY: The Industry Sector Advisory Committee on Small and Minority Business (ISAC-14) will hold an open meeting on July 17, 2000, from 9:30 a.m. to 3:20 p.m.

DATES: The meeting is scheduled for July 17, 2000, unless otherwise notified.

ADDRESSES: The meeting will be held at the Department of Commerce, Room 3884, located at 14th Street and Constitution Avenue, NW., Washington, DC, unless otherwise notified.

FOR FURTHER INFORMATION CONTACT: Millie Sjoberg or Cory Churches, Department of Commerce, 14th St. and Constitution Ave., NW., Washington, DC 20230, (202) 482-4792 or Emory Mayfield, Office of the United States Trade Representative, 1724 F St., NW., Washington, DC 20508, (202) 395-6120.

SUPPLEMENTARY INFORMATION: The ISAC-14 will hold an open meeting on July 17, 2000, from 9:30 a.m. to 3:20 p.m. Agenda topics to be addressed will be:

1. A Security Briefing for current and new members.

2. An Ethics Briefing for current and new members.

3. A briefing on new Carousel Legislation.

4. A briefing on implementation of infrastructure to monitor China's compliance with agreements.

5. A briefing by the Bureau of Economic Analysis regarding the survey on services export figures.

6. A briefing by the U.S. Trade Representative's WTO Services negotiator regarding developments in the WTO services agreement.

7. Committee Business.

Dominic Bianchi,
Acting Assistant United States Trade Representative for Intergovernmental Affairs and Public Liaison.

[FR Doc. 00-17183 Filed 7-7-00; 8:45 am]

BILLING CODE 3190-01-M